DEPARTMENT OF AGRICULTURE

Forest Service

Eastern Washington Cascades Provincial Advisory Committee

AGENCY: Forest Service, USDA.

ACTION: Notice of meeting.

SUMMARY: The Eastern Washington Cascades Provincial Advisory Committee (PAC) will meet in Wenatchee, Washington. The committee is authorized pursuant to the implementation of E-19 of the Record of Decision and operates in compliance with the Federal Advisory Committee Act. The purpose of the committee is to provide advice and make recommendations to promote a better integration of forest management activities between Federal and non-Federal entities to ensure that such activities are complementary. PAC information can be found at the following Web site: http://www.fs.usda.gov/main/okawen/workingtogether/advisorycommittees.

DATES: The meeting will be held from 8:30 a.m. to 3:30 p.m. on Tuesday, March 22.

All PAC meetings are subject to cancellation. For status of meeting prior to attendance, please contact the person listed under FOR FURTHER INFORMATION CONTACT.

ADDRESSES: The meeting will be held at the Okanogan-Wenatchee National Forest headquarters office located at 215 Melody Lane, Wenatchee, Washington.

Written comments may be submitted as described under SUPPLEMENTARY INFORMATION. All comments, including names and addresses when provided, are placed in the record and are available for public inspection and copying. The public may inspect comments received at 215 Melody Lane, Wenatchee, Washington. Please call ahead to facilitate entry into the building.

FOR FURTHER INFORMATION CONTACT: Public Affairs Specialist Robin DeMario by phone at 509-664-9292 or via email at rdemario@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is:

1. To provide updates to advisory committee members on Forest Plan Revision, Travel Management Planning, Forest Restoration Strategy, review of the fires that occurred in 2015 on the Okanogan-Wenatchee National Forest, and Burned Area Emergency Response efforts.

The meeting is open to the public. The agenda will include time for people to make oral statements of three minutes or less. Individuals wishing to make an oral statement should request in writing by March 14, 2016 to be scheduled on the agenda. Anyone who would like to bring related matters to the attention of the committee may file written statements with the committee staff before or after the meeting. Written comments and requests for time to make oral comments must be sent to Pubic Affairs Specialist Robin DeMario, 216 Melody Lane, Wenatchee, Washington, 98801; by email to rdemario@fs.fed.us, or via facsimile to 509-664-9286.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: February 9, 2016.
Jason Kuiken,
Deputy Forest Supervisor, Okanogan-Wenatchee National Forest.

[FR Doc. 2016-03042 Filed 2-12-16; 8:45 am]

BILLING CODE 3411-15-P